DEPARTMENT OF ENERGY

Federal Energy Regulatory Commission

Combined Notice of Filings

Take notice that the Commission has received the following Natural Gas Pipeline Rate and Refund Report filings:

Filings Instituting Proceedings

Docket Numbers: RP19-445-001.

Applicants: Iroquois Gas Transmission System, L.P.

Description: Compliance filing 022818 Petition for Approval of Pre-Filing Rate Settlement.

Filed Date: 2/28/19.

Accession Number: 20190228-5104.

Comments Due: 5 p.m. ET 3/12/19.

Docket Numbers: RP19-720-000.

Applicants: Cheniere Creole Trail Pipeline, L.P.

Description: § 4(d) Rate Filing: TRA—April to be effective 4/1/2019.

Filed Date: 2/28/19.

Accession Number: 20190228-5008.

Comments Due: 5 p.m. ET 3/12/19.

Docket Numbers: RP19-721-000.

Applicants: Cheniere Corpus Christi Pipeline, LP.

Description: § 4(d) Rate Filing: EPC—2019 to be effective 4/1/2019.

Filed Date: 2/28/19.

Accession Number: 20190228-5009.

Comments Due: 5 p.m. ET 3/12/19.

Docket Numbers: RP19-722-000.

Applicants: NEXUS Gas Transmission, LLC.

Description: § 4(d) Rate Filing: Negotiated Rate—DTE Gas to BP Energy 960142 to be effective 3/1/2019.

Filed Date: 2/28/19.

Accession Number: 20190228-5010.

Comments Due: 5 p.m. ET 3/12/19.

Docket Numbers: RP19-723-000.

Applicants: NEXUS Gas Transmission, LLC.

Description: § 4(d) Rate Filing: Negotiated Rates—Columbia 860005 releases eff 3-1-2019 to be effective3/1/2019.

Filed Date: 2/28/19.

Accession Number: 20190228-5011.

Comments Due: 5 p.m. ET 3/12/19.

Docket Numbers: RP19-724-000.

Applicants: Algonquin Gas Transmission, LLC.

Description: § 4(d) Rate Filing: Negotiated Rate—Bay 510066 to UGI 798797 to be effective 3/1/2019.

Filed Date: 2/28/19.

Accession Number: 20190228-5037.

Comments Due: 5 p.m. ET 3/12/19.

Docket Numbers: RP19-725-000.

Applicants: Northern Natural Gas Company.

Description: § 4(d) Rate Filing: 20190228 Negotiated Rates to be effective 3/1/2019.

Filed Date: 2/28/19.

Accession Number: 20190228-5041.

Comments Due: 5 p.m. ET 3/12/19.

Docket Numbers: RP19-726-000.

Applicants: Gulf South Pipeline Company, LP.

Description: § 4(d) Rate Filing: Cap Rel Neg Rate Agmts (Coastal Bend releases eff 3-1-2019) to be effective3/1/2019.

Filed Date: 2/28/19.

Accession Number: 20190228-5044.

Comments Due: 5 p.m. ET 3/12/19.

Docket Numbers: RP19-727-000.

Applicants: Gulf South Pipeline Company, LP.

Description: § 4(d) Rate Filing: Cap Rel Neg Rate Agmt (Aethon 50488 to Scona 50760) to be effective 3/1/2019.

Filed Date: 2/28/19.

Accession Number: 20190228-5045.

Comments Due: 5 p.m. ET 3/12/19.

Docket Numbers: RP19-728-000.

Applicants: Gulf South Pipeline Company, LP.

Description: § 4(d) Rate Filing: Cap Rel Neg Rate Agmts (Atlanta Gas 8438 to various eff 3-1-2019) to be effective 3/1/2019.

Filed Date: 2/28/19.

Accession Number: 20190228-5046.

Comments Due: 5 p.m. ET 3/12/19.

Docket Numbers: RP19-729-000.

Applicants: Gulf South Pipeline Company, LP.

Description: § 4(d) Rate Filing: Cap Rel Neg Rate Agmt (Petrohawk 41455 to BP 50759) to be effective 3/1/2019.

Filed Date: 2/28/19.

Accession Number: 20190228-5047.

Comments Due: 5 p.m. ET 3/12/19.

Docket Numbers: RP19-730-000.

Applicants: Gulf South Pipeline Company, LP.

Description: § 4(d) Rate Filing: Remove Expired Agmts eff 3-1-2019 to be effective 3/1/2019.

Filed Date: 2/28/19.

Accession Number: 20190228-5048.

Comments Due: 5 p.m. ET 3/12/19.

Docket Numbers: RP19-731-000.

Applicants: Kern River Gas Transmission Company.

Description: § 4(d) Rate Filing: 2019 March Negotiated Rate to be effective3/1/2019.

Filed Date: 2/28/19.

Accession Number: 20190228-5077.

Comments Due: 5 p.m. ET 3/12/19.

Docket Numbers: RP19-732-000.

Applicants: El Paso Natural Gas Company, L.L.C.

Description: § 4(d) Rate Filing: Non-Conforming Negotiated Rate Agreement Update (SoCal Mar 19) to be effective3/1/2019.

Filed Date: 2/28/19.

Accession Number: 20190228-5083.

Comments Due: 5 p.m. ET 3/12/19.

Docket Numbers: RP19-733-000.

Applicants: Colorado Interstate Gas Company, L.L.C.

Description: § 4(d) Rate Filing: Semi Annual Fuel and LUF Update to be effective 4/1/2019.

Filed Date: 2/28/19.

Accession Number: 20190228-5101.

Comments Due: 5 p.m. ET 3/12/19.

Docket Numbers: RP19-734-000.

Applicants: Equitrans, L.P.

Description: § 4(d) Rate Filing:3-1-2019 Formula-Based Negotiated Rates to be effective 3/1/2019.

Filed Date: 2/28/19.

Accession Number: 20190228-5105.

Comments Due: 5 p.m. ET 3/12/19.

Docket Numbers: RP19-735-000.

Applicants: TransColorado Gas Transmission Company LLC.

Description: § 4(d) Rate Filing: Quarterly FL&U Update to be effective 4/1/2019.

Filed Date: 2/28/19.

Accession Number: 20190228-5106.

Comments Due: 5 p.m. ET 3/12/19.

Docket Numbers: RP19-736-000.

Applicants: Millennium Pipeline Company, LLC.

Description: § 4(d) Rate Filing: Non-Conforming & Negotiated Rate Svc Agmt—ConEd to be effective 3/30/2019.

Filed Date: 2/28/19.

Accession Number: 20190228-5109.

Comments Due: 5 p.m. ET 3/12/19.

Docket Numbers: RP19-737-000.

Applicants: Transcontinental Gas Pipe Line Company, LLC.

Description: § 4(d) Rate Filing: Clean Up and Revise FOS—March 2019 to be effective 3/31/2019.

Filed Date: 2/28/19.

Accession Number: 20190228-5122.

Comments Due: 5 p.m. ET 3/12/19.

Docket Numbers: RP19-738-000.

Applicants: Algonquin Gas Transmission, LLC.

Description: § 4(d) Rate Filing: Negotiated Rate—Yankee to Direct Energy 798804 to be effective 3/1/2019.

Filed Date: 2/28/19.

Accession Number: 20190228-5123.

Comments Due: 5 p.m. ET 3/12/19.

Docket Numbers: RP19-739-000.

Applicants: Gulfstream Natural Gas System, L.L.C.

Description: § 4(d) Rate Filing: Negotiated Rate—Duke Energy 9196760 eff 3-1-19 to be effective 3/1/2019.

Filed Date: 2/28/19.

Accession Number: 20190228-5124.

Comments Due: 5 p.m. ET 3/12/19.

Docket Numbers: RP19-740-000.

Applicants: High Point Gas Transmission, LLC.

Description: Compliance filing Annual Unaccounted for Gas Retention Percentage Filing.

Filed Date: 2/28/19.

Accession Number: 20190228-5134.

Comments Due: 5 p.m. ET 3/12/19.

Docket Numbers: RP19-741-000.

Applicants: ANR Pipeline Company.

Description: § 4(d) Rate Filing: ANR Fuel Filing 2019 to be effective4/1/2019.

Filed Date: 2/28/19.

Accession Number: 20190228-5188.

Comments Due: 5 p.m. ET 3/12/19.

Docket Numbers: RP19-742-000.

Applicants: Equitrans, L.P.

Description: § 4(d) Rate Filing: Negotiated Rate Agreement—EQT Energy ITS to be effective 3/1/2019.

Filed Date: 2/28/19.

Accession Number: 20190228-5197.

Comments Due: 5 p.m. ET 3/12/19.

Docket Numbers: RP19-743-000.

Applicants: Transcontinental Gas Pipe Line Company, LLC.

Description: § 4(d) Rate Filing: Negotiated Rates—Cherokee AGL—Replacement Shippers—Mar 2019 to be effective 3/1/2019.

Filed Date: 2/28/19.

Accession Number: 20190228-5198.

Comments Due: 5 p.m. ET 3/12/19.

Docket Numbers: RP19-744-000.

Applicants: NEXUS Gas Transmission, LLC.

Description: § 4(d) Rate Filing: Negotiated Rate—Columbia to Alpha 960182 to be effective 3/1/2019.

Filed Date: 2/28/19.

Accession Number: 20190228-5199.

Comments Due: 5 p.m. ET 3/12/19.

Docket Numbers: RP19-745-000.

Applicants: Tennessee Gas Pipeline Company, L.L.C.

Description: § 4(d) Rate Filing: Volume No. 2—Mercuria Energy America, Inc. SP344260 to be effective 4/1/2019.

Filed Date: 2/28/19.

Accession Number: 20190228-5211.

Comments Due: 5 p.m. ET 3/12/19.

Docket Numbers: RP19-746-000.

Applicants: Columbia Gas Transmission, LLC.

Description: § 4(d) Rate Filing: TCO Neg Rate and NC Agreement Clean-Up (Part 1) to be effective 4/1/2019.

Filed Date: 2/28/19.

Accession Number: 20190228-5227.

Comments Due: 5 p.m. ET 3/12/19.

Docket Numbers: RP19-747-000.

Applicants: Dominion Energy Cove Point LNG, LP.

Description: § 4(d) Rate Filing: DECP—2019 Annual EPCA to be effective 4/1/2019.

Filed Date: 2/28/19.

Accession Number: 20190228-5248.

Comments Due: 5 p.m. ET 3/12/19.

Docket Numbers: RP19-748-000.

Applicants: Dominion Energy Cove Point LNG, LP.

Description: § 4(d) Rate Filing: DECP—2019 Annual Fuel Retainage to be effective 4/1/2019.

Filed Date: 2/28/19.

Accession Number: 20190228-5238.

Comments Due: 5 p.m. ET 3/12/19.

Docket Numbers: RP19-749-000.

Applicants: Texas Eastern Transmission, LP.

Description: § 4(d) Rate Filing: Negotiated Rate—CFE to Conocophillips 8956429 to be effective 3/1/2019.

Filed Date: 2/28/19.

Accession Number: 20190228-5249.

Comments Due: 5 p.m. ET 3/12/19.

Docket Numbers: RP19-750-000.

Applicants: Golden Pass Pipeline LLC.

Description: Compliance filing GPPL Operational Purchases and Sales for 2018 Revised.

Filed Date: 2/28/19.

Accession Number: 20190228-5263.

Comments Due: 5 p.m. ET 3/12/19.

Docket Numbers: RP19-751-000.

Applicants: Kinder Morgan Louisiana Pipeline LLC.

Description: § 4(d) Rate Filing: Sabine Pass Negotiated Rate to be effective4/1/2019.

Filed Date: 2/28/19.

Accession Number: 20190228-5267.

Comments Due: 5 p.m. ET 3/12/19.

Docket Numbers: RP19-752-000.

Applicants: Fayetteville Express Pipeline LLC.

Description: § 4(d) Rate Filing: Filed Agreements Housekeeping to be effective 3/31/2019.

Filed Date: 2/28/19.

Accession Number: 20190228-5269.

Comments Due: 5 p.m. ET 3/12/19.

Docket Numbers: RP19-753-000.

Applicants: Equitrans, L.P.

Description: § 4(d) Rate Filing: AVC Storage Loss Retainage Factor Update—2019 to be effective 4/1/2019.

Filed Date: 2/28/19.

Accession Number: 20190228-5275.

Comments Due: 5 p.m. ET 3/12/19.

Docket Numbers: RP19-754-000.

Applicants: Rockies Express Pipeline LLC.

Description: § 4(d) Rate Filing: Neg Rate 2019-02-28 Encana to be effective 3/1/2019.

Filed Date: 2/28/19.

Accession Number: 20190228-5288.

Comments Due: 5 p.m. ET 3/12/19.

Docket Numbers: RP19-755-000.

Applicants: Rockies Express Pipeline LLC.

Description: § 4(d) Rate Filing: Neg Rate 2019-02-28 E2W (5) to be effective 3/1/2019.

Filed Date: 2/28/19.

Accession Number: 20190228-5311.

Comments Due: 5 p.m. ET 3/12/19.

Docket Numbers: RP19-756-000.

Applicants: Columbia Gulf Transmission, LLC.

Description: § 4(d) Rate Filing: GXP Amendments Filing to be effective2/28/2019.

Filed Date: 2/28/19.

Accession Number: 20190228-5318.

Comments Due: 5 p.m. ET 3/12/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filing is encouraged. More detailed information relating to filing requirements, interventions, protests, service, and qualifying facilities filings can be found at: http://www.ferc.gov/docs-filing/efiling/filing-req.pdf. For other information, call (866) 208-3676 (toll free). For TTY, call (202) 502-8659.

Dated: March 4, 2019.
Kimberly D. Bose,
Secretary.

[FR Doc. 2019-04182 Filed 3-7-19; 8:45 am]

BILLING CODE 6717-01-P